DEPARTMENT OF STATE

[Public Notice 4729]

30-Day Notice of Proposed Information Collection: DS-2031, Shrimp Exporter's/Importer's Declaration; OMB Control Number 1405-0095

ACTION: Notice of request for public comment and submission to OMB of proposed collection of information.

SUMMARY: The Department of State has submitted the following information collection request to the Office of Management and Budget (OMB) for approval in accordance with the Paperwork Reduction Act of 1995.

• Title of Information Collection: Shrimp Exporter's/Importer's Declaration.

• OMB Control Number: 1405-0095.

• Type of Request: Extension of a Currently Approved Collection.

• Originating Office: Bureau of Oceans and International Environmental and Scientific Affairs, Office of Marine Conservation (OES/OMC).

• Form Number: DS-2031.

• Respondents: Foreign shrimp exporters, foreign governments (in some cases) and U.S. importers.

• Estimated Number of Respondents: 3,000 per year.

• Estimated Number of Responses: 9,000 per year, estimated.

• Average Hours Per Response: 10 minutes.

• Total Estimated Burden: 1,666.

• Frequency: On occasion

• Obligation to Respond: Required to Obtain or Retain a Benefit.

DATES: Comments may be submitted to the Office of Management and Budget (OMB) for up to 30 days from June 3, 2004.

ADDRESSES: Comments and questions should be directed to Alex Hunt, the State Department Desk Officer in Office of Information and Regulatory Affairs at the Office of Management and Budget (OMB), who may be reached on 202-395-7860. You may submit comments by any of the following methods:

• E-mail: ahunt@omb.eop.gov. You must include the DS form number (if applicable), information collection title, and OMB control number in the subject line of your message.

• Hand Delivery or Courier: OIRA State Department Desk Officer, Office of Management and Budget, 725 17th Street, NW., Washington, DC 20503.

• Fax: 202-395-6974.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: The form DS-2031 is necessary to track the method of production of shrimp and shrimp products in order to implement trade controls called for in Section 609 of Pub. L. 101-162 relating to sea turtle protection in shrimp fisheries.

Methodology: The information called for by the DS-2031 will be collected from the respondents directly on the form, and the form will accompany the controlled products (shrimp and shrimp products using harmonized tariff codes 0306.13.00, 0306.23.00, 1605.20.05, or 1605.20.10) through the international trade process through to importation into the United States. The information should be available for inspection by U.S. Customs and Border Protection upon entry or for a period of three years after importation. The importer of the controlled products should maintain the information for a period of three years.

FOR FURTHER INFORMATION CONTACT: Copies of the proposed information collection and supporting documents may be obtained from James Story, Office of Marine Conservation, U.S. Department of State, 2201 C St. NW., Washington, DC 20520, who may be reached on 202-647-2335.

Dated: May 26, 2004.
David A. Balton,
Deputy Assistant Secretary for Oceans and Fisheries, Bureau of Oceans and International Environmental and Scientific Affairs, Department of State.

[FR Doc. 04-12613 Filed 6-2-04; 8:45 am]

BILLING CODE 4710-09-P